DEPARTMENT OF COMMERCE

International Trade Administration

[A-570-893, A-552-802]

Certain Frozen Warmwater Shrimp from the People's Republic of China and the Socialist Republic of Vietnam: Notice of Extension of Time Limit for the Final Results of the Third Administrative Reviews

AGENCY: Import Administration, International Trade Administration, Department of Commerce.

EFFECTIVE DATE: June 4, 2009.

FOR FURTHER INFORMATION CONTACT: Paul Walker (China) and Irene Gorelik (Vietnam), AD/CVD Operations, Office 9, Import Administration, International Trade Administration, U.S. Department of Commerce, 14th Street and Constitution Avenue, N.W., Washington, DC 20230; telephone (202) 482-0413 and (202) 482-6905, respectively.

SUPPLEMENTARY INFORMATION:

Background

On March 9, 2009, the Department of Commerce (“Department”) published notices for the preliminary results of the administrative reviews of the antidumping duty orders on certain frozen warmwater shrimp from the People's Republic of China (“PRC”) and the Socialist Republic of Vietnam (“Vietnam”), covering the period February 1, 2007, through January 31, 2008. See Third Administrative Review of Frozen Warmwater Shrimp from the People's Republic of China: Preliminary Results and Partial Rescission of Antidumping Duty Administrative Review, 74 FR 10026 (March 9, 2009); and Certain Frozen Warmwater Shrimp from the Socialist Republic of Vietnam: Preliminary Results, Preliminary Partial Rescission and Request for Revocation, in Part, of the Third Administrative Review, 74 FR 10009 (March 9, 2009). The final results for these administrative reviews are currently due no later than July 7, 2009, the next business day after 120 days from the date of publication of the preliminary results of review.

Extension of Time Limit for the Final Results

Section 751(a)(3)(A) of the Tariff Act of 1930, as amended (“Act”), requires the Department issue the final results of an administrative review within 120 days after the date on which the preliminary results are published. If it is not practicable to complete the review within that time period, section 751(a)(3)(A) of the Act allows the Department to extend the deadline for the final results to a maximum of 180 days after the date on which the preliminary results are published.

With respect to shrimp from the PRC, the Department requires additional time to properly consider the numerous and complex issues raised by interested parties in their case briefs, including the surrogate country selection. Similarly, with respect to shrimp from Vietnam, the Department requires additional time to consider the issues raised in case briefs from multiple interested parties, including the separate-rate status for numerous non-mandatory companies, and to conduct a public hearing requested by multiple interested parties.

Thus, it is not practicable to complete these reviews within the original time limit. Therefore, the Department is extending the time limit for completion of the final results of these reviews by 21 days, in accordance with section 751(a)(3)(A) of the Act. The final results are now due no later than July 28, 2009.

We are issuing and publishing this notice in accordance with sections 751(a)(1) and 777(i)(1) of the Act.

Dated: May 29, 2009.
John M. Andersen,
Acting Deputy Assistant Secretary for Antidumping and Countervailing Duty Operations.

[FR Doc. E9-13064 Filed 6-3-09; 8:45 am]

BILLING CODE 3510-DS-S